DEPARTMENT OF COMMERCE

National Oceanic and Atmospheric Administration

RIN 0648-XA292

Marine Mammals; File No. 16087

AGENCY: National Marine Fisheries Service (NMFS), National Oceanic and Atmospheric Administration (NOAA), Commerce.

ACTION: Notice; receipt of application.

SUMMARY: Notice is hereby given that NMFS National Marine Mammal Laboratory, Seattle, WA, has applied in due form for a permit to conduct research on marine mammals.

DATES: Written, telefaxed, or e-mail comments must be received on or before April 13, 2011.

ADDRESSES: The application and related documents are available for review by selecting “Records Open for Public Comment” from the Features box on the Applications and Permits for Protected Species (APPS) home page, https://apps.nmfs.noaa.gov, and then selecting File No. 16087 from the list of available applications.

These documents are also available upon written request or by appointment in the following offices:

Permits, Conservation and Education Division, Office of Protected Resources, NMFS, 1315 East-West Highway, Room 13705, Silver Spring, MD 20910; phone (301) 713-2289; fax (301) 13-0376;

Northwest Region, NMFS, 7600 Sand Point Way NE, BIN C15700, Bldg. 1, Seattle, WA 98115-0700; phone (206) 526-6150; fax (206) 526-6426; and

Southwest Region, NMFS, 501 West Ocean Blvd., Suite 4200, Long Beach, CA 90802-4213; phone (562) 980-4001; fax (562) 980-4018.

Written comments on this application should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Tammy Adams or Amy Sloan, (301) 713-2289.

SUPPLEMENTARY INFORMATION: The subject permit is requested under the authority of the Marine Mammal Protection Act of 1972, as amended (MMPA; 16 U.S.C. 1361 et seq.), and the regulations governing the taking and importing of marine mammals (50 CFR part 216).

The applicant requests a five-year permit to take marine mammals in California, Oregon, and Washington to investigate population status, health, demographic parameters, life history and foraging ecology of California sea lions (Zalophus californianus), Pacific harbor seals (Phoca vitulina), and northern elephant seals (Mirounga angustrirostris). Procedures include: Capture (stalking, round up, hoop net, darting, floating trap); administer drug (IM, subcutaneously); anesthesia (gas, sedatives); euthanasia; attach scientific instruments; mark (clip hair, flipper tag, hot brand, paint, patch); measure; restrain (board, cage, hand, head bag, net, pen); collect tissue sample (blood, blubber, enema, fecal loop, hair, stomach lavage, milk, remote biopsy, skin, swab, urine, vibrissae); ultrasound; and weigh. Up to 509,475 California sea lions may be taken annually, including 3,315 by capture and handle, 100 by harassment and tissue sampling and 506,060 by incidental disturbance. Up to 100 moribund and 40 prematurely born California sea lion pups may be euthanized for health studies over the duration of the permit. Up to 1,185 harbor seals may be taken annually, including 50 by capture and handling, and 1,135 by incidental disturbance. Up to 2,766 northern elephant seals may be taken annually, including 50 by capture and handling, and 2,716 by incidental disturbance. The applicant requests unintentional research-related mortality of up to 49 California sea lions, 4 harbor seals, and 4 northern elephant seals. Up to 4,500 northern fur seals (Callorhinus ursinus) may be incidentally disturbed annually at San Miguel Island, CA during research activities.

As established under the Preferred Alternative in the Final Programmatic Environmental Impact Statement (PEIS) for Steller Sea Lion and Northern Fur Seal Research (NMFS 2007), NMFS proposes to authorize annual cumulative research-related mortality (under this permit in combination with any others for research on Steller sea lions (Eumetopias jubatus) or northern fur seals) of up to 15 percent of the Potential Biological Removal levels for each stock. These annual allowances would include observed and unobserved mortalities, and be calculated based on the nature of the research. The number of research-related mortalities of northern fur seals allowed for this permit may be higher or lower than those requested by the applicant, based on NMFS calculations using the methods outlined in the PEIS.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 9, 2011.
Tammy C. Adams,
Acting Chief, Permits, Conservation and Education Division, Office of Protected Resources, National Marine Fisheries Service.

[FR Doc. 2011-5838 Filed 3-11-11; 8:45 am]

BILLING CODE 3510-22-P